POSTAL REGULATORY COMMISSION

[Docket No. CP2022-30; Order No. 6053]

Inbound Competitive Multi-Service Agreements With Foreign Postal Operators

AGENCY: Postal Regulatory Commission.

ACTION: Notice.

SUMMARY: The Commission is acknowledging a recent filing by the Postal Service that it has entered into the Inbound Competitive Multi-Service Agreement with Foreign Postal Operators (FPOs). This notice informs the public of the filing, invites public comment, and takes other administrative steps.

DATES: Comments are due: December 21, 2021.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Commission Action

III. Ordering Paragraphs

I. Introduction

On December 3, 2021, the Postal Service filed a notice with the Commission pursuant to 39 CFR 3035.105 and Order No. 546,¹ giving notice that it has entered into an Inbound Competitive Multi-Service Agreement with a foreign postal operator (FPO). The Notice concerns the inbound portions of the Competitive multi-product agreement entered into by the Postal Service and an FPO, referred to as “FPO-USPS Agreement FY22-1.” Notice at 1. The Postal Service seeks to include FPO-USPS Agreement FY22-1 within the Inbound Competitive Multi-Service Agreement with Foreign Postal Operators 1 (MC2010-34) product. Id.

¹ Notice of United States Postal Service of Filing Functionally Equivalent Inbound Competitive Multi-Service Agreement with Foreign Postal Operator—FY22-1, December 3, 2021 (Notice). Docket Nos. MC2010-34 and CP2010-95, Order Adding Inbound Competitive Multi-Service Agreements with Foreign Postal Service Operators 1 to the Competitive Product List and Approving Included Agreement, September 29, 2010 (Order No. 546).

The Postal Service asserts that FPO-USPS Agreement FY22-1 “is functionally equivalent to the baseline agreement filed in Docket No. MC2010-34 because the terms of this agreement are similar in scope and purpose to the terms of the CP2010-95 Agreement.” Id. at 3. Concurrent with the Notice, the Postal Service filed supporting financial documentation and the following documents:

• Attachment 1—an application for non-public treatment;

• Attachment 2—the FPO-USPS Agreement FY22-1;

• Attachment 3—Governors' Decision No. 19-1;

• Attachment 4—a certified statement required by 39 CFR 3035.105(c)(2). Id. at 5.

The Postal Service states it intends for FPO-USPS Agreement FY22-1 to take effect on January 1, 2022. Id. at 1. The Postal Service notes that FPO-USPS Agreement FY22-1 provides rates for inbound tracked packets. Id. at 6.

The Postal Service states that FPO-USPS Agreement FY22-1 is in compliance with 39 U.S.C. 3633 and is functionally equivalent to the inbound Competitive portions of the CP2010-95 agreement, which was included in the Inbound Competitive Multi-Service Agreements with Foreign Postal Operators 1 product (MC2010-34). Id. at 9. For these reasons, the Postal Service avers that FPO-USPS Agreement FY22-1 should be added to the Inbound Competitive Multi-Service Agreements with Foreign Postal Operators 1 product. Id.

II. Commission Action

The Commission establishes Docket No. CP2022-30 to consider the Notice. Interested persons may submit comments on whether the FPO-USPS Agreement FY22-1 is consistent with 39 U.S.C. 3633 and 39 CFR 3035.105 and whether it is functionally equivalent to the inbound Competitive portions of the Docket No. CP2010-95 agreement, which was included in the Inbound Competitive Multi-Service Agreements with Foreign Postal Operators 1 product (MC2010-34). Comments are due by December 21, 2021.

The Notice and related filings are available on the Commission's website (http://www.prc.gov). The Commission encourages interested persons to review the Notice for further details.

The Commission appoints Kenneth R. Moeller to serve as Public Representative in this proceeding.

III. Ordering Paragraphs

It is ordered:

1. The Commission establishes Docket No. CP2022-30 for consideration of the matters raised by the Notice of United States Postal Service of Filing Functionally Equivalent Inbound Competitive Multi-Service Agreement with Foreign Postal Operator—FY22-1, filed on December 3, 2021.

2. Pursuant to 39 U.S.C. 505, Kenneth R. Moeller is appointed to serve as an officer of the Commission (Public Representative) to represent the interests of the general public in this proceeding.

3. Comments by interested persons are due by December 21, 2021.

4. The Secretary shall arrange for publication of this order in the Federal Register.

By the Commission.
Erica A. Barker,
Secretary.

[FR Doc. 2021-26845 Filed 12-10-21; 8:45 am]

BILLING CODE 7710-FW-P